DEPARTMENT OF HEALTH AND HUMAN SERVICES

Food and Drug Administration

2002 FDA Science Forum

AGENCY: Food and Drug Administration, HHS.

ACTION: Notice of meeting.

The Food and Drug Administration (FDA) is announcing the following meeting: 2002 FDA Science Forum. The topic to be discussed is “FDA: Building a Multidisciplinary Foundation.”

Date and Time: The science forum will be held on February 20 and 21, 2002, from 8:30 a.m. to 4:30 p.m.

Location: The science forum will be held at the Washington Convention Center, 900 Ninth St. NW., Washington, DC 20001.

Contact: AOAC International, Fulfillment Department, 301-924-7077, e-mail: fulfillment@aoac.org, or Donna L. Mentch, Food and Drug Administration, Office of Science (HF-33), 5600 Fishers Lane, Rockville, MD 20857, 301-827-3038, e-mail: dmentch@oc.fda.gov.

Registration: Attendees may register onsite on February 20 and 21, 2002. Registration and program information are also available at http://www/aoac.org/science.htm. Attendance will be limited; therefore, interested parties are encouraged to register early.

SUPPLEMENTARY INFORMATION: The 2002 FDA Science Forum will focus on the importance of FDA's many scientific and regulatory disciplines to the agency's decisionmaking process. On the first day speakers and participants will address the role of research and review in the formulation of FDA's public health policies. The second day will feature the principles of public health surveillance and the relation of surveillance to current scientific issues, from both domestic and global perspectives.

If you need special accommodations due to a disability, please contact AOAC International at least 7 days in advance.

Dated: February 1, 2002.
Margaret M. Dotzel,
Associate Commissioner for Policy.

[FR Doc. 02-3021 Filed 2-6-02; 8:45 am]

BILLING CODE 4160-01-S